ENVIRONMENTAL PROTECTION AGENCY

[OW-2005-0006, FRL-7922-9]

Agency Information Collection Activities: Proposed Collection; Comment Request; Willingness To Pay Survey for Section 316(b) Phase III Cooling Water Intake Structures: Instrument, Pre-Test, and Implementation, EPA ICR Number 2155.02

AGENCY: Environmental Protection Agency.

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before August 8, 2005.

ADDRESSES: Submit your comments, referencing docket ID number OW-2005-0006, to EPA online using EDOCKET (our preferred method), by email to ow-docket@epa.gov, or by mail to: EPA Docket Center, Environmental Protection Agency, Water Docket, EPA West, 4101T, 1200 Pennsylvania Ave., NW., Washington, DC 20460.

FOR FURTHER INFORMATION CONTACT: Erik Helm, Office of Science and Technology, 4303T, Environmental Protection Agency, 1200 Pennsylvania Ave., NW., Washington, DC 20460; telephone number: 202-566-1066; fax number: 202-566-1054; e-mail address: helm.erik@epa.gov.

SUPPLEMENTARY INFORMATION: EPA has established a public docket for this ICR under Docket ID number OW-2005-0006, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are individuals/households.

Title: Willingness to Pay Survey for section 316(b) Phase III Cooling Water Intake Structures: Instrument, Pre-test, and Implementation.

Abstract: The U.S. Environmental Protection Agency (EPA) is in the process of developing new regulations to provide national performance standards for controlling impacts from cooling water intake structures (CWIS) for Phase III facilities under section 316(b) of the Clean Water Act (CWA). The facilities considered Phase III facilities under section 316(b) regulations are facilities that withdraw water for cooling purposes from rivers, streams, lakes, reservoirs, estuaries, oceans, or other waters of the United States, and that are either existing electrical generators with cooling water intake structures that are designed to withdraw 50 million gallons of water per day (MGD) or less, or existing manufacturing and industrial facilities. The regulation also establishes section 316(b) requirements for new offshore oil and gas extraction facilities. EPA has previously published final section 316(b) regulations that address new facilities (Phase I) on December 18, 2001 (66 FR 65256) and existing large power producers (Phase II) on July 9, 2004 (69 FR 41576). See 40 CFR Part 125, Subparts I and J, respectively.

As required under Executive Order 12866, EPA is conducting economic impact and cost-benefit analyses for the section 316(b) regulation for Phase III facilities. Comprehensive, appropriate estimates of total resource value include both use and non-use values, such that the resulting total social benefit estimates may be compared to total social cost. Developing comprehensive quantified benefit estimates for the section 316(b) regulation requires consideration of non-use values because nearly all (96 percent) of impingement and entrainment losses at CWIS consist of either forage species, or non-landed recreational and commercial species that do not have direct uses or, as a result, direct use values. Although individuals do not use these resources directly, they may nevertheless be affected by changes in resource status or quality, such that they would be willing to pay to maintain these resources. It is generally accepted that non-use values may be substantial in some cases, and that failure to recognize such values may lead to improper inferences regarding policy benefits and costs. Many public comments on the proposed section 316(b) regulation for Phase II facilities and the Phase II Notice of Data Availability suggested that a properly designed and conducted stated preference, or contingent valuation (CV), survey would be the most appropriate and acceptable method to estimate the non-use benefits of the rule.¹ Stated preference survey methodology is the generally accepted means to estimate non-use values. Stated preference surveys use carefully designed questions to elicit respondents' willingness to pay (WTP) for particular ecological improvements, based on their responses to either discrete choice or open-ended questions regarding hypothetical resource improvements or programs. Such improvements may include increased protection of aquatic habitats or species with particular attributes.

¹ For detail see “Phase II—Large Existing Electric Generating Plants Response to Public Comment,” U.S. EPA, 2004. Available at: http://www.epa.gov/waterscience/316b/commentph2.htm.

To assess public policy significance or importance of the ecological gains from the section 316(b) regulation for Phase III facilities, EPA proposes to conduct a stated preference study to measure non-use benefits of reduced fish losses at CWIS due to the regulation. The study would focus on a broad range of aquatic species, including forage fish and a variety of fish species harvested by commercial and recreational fishermen. Additionally, the survey will include a revealed preference/contingent behavior component to measure how changes in fish populations affect recreational activities such as angling. The results of the survey would be used to estimate the non-use benefits and recreational benefits of the proposed 316(b) regulation.

The stated preference component of the survey will ask respondents to choose how they would vote, if presented with two different hypothetical regulatory options characterized by [a] changes in annual impingement and entrainment losses of fish and other organisms, [b] effects on long-term fish populations, [c] effects on recreational and commercial catch, and [d] an unavoidable cost of living increase for the respondent's household. Respondents will be allowed to “vote” for one of the presented regulatory options, or to choose not to vote for either option. The stated preference component of the survey will also ask respondents to answer questions about their reasons for voting, their level of concern about various policy issues, and their affiliations and recreational activities.

The revealed preference/contingent behavior survey component will be administered only to respondents who indicate that they participate in water-based recreational activities that are potentially affected by changes in fish populations. This component will ask respondents about their recent recreational activities, and ask how many additional trips (if any) they would take to their most recently visited recreation site each year if fish populations and catch rates (for anglers) increased by a specified amount. It will also ask respondents whether they would choose to visit the site of their last recreational trip or a similar site with higher fish populations and catch rates that is further from their home.

Survey subjects will be randomly selected from a representative national panel of respondents maintained by Knowledge Networks, an online survey company. Subjects will be asked to complete a web-based questionnaire. Participation in the survey is voluntary. EPA intends to administer the survey to a total of 4,400 persons, including 500 persons that will take part in an initial survey pilot. EPA chose a web-based survey format because it is the most cost-effective method available to conduct a large statistically-based survey covering a wide geographic region in a relatively short time frame. To avoid potential sampling biases associated with the web-based survey methodology, the survey sample will be stratified by geographical region, and within each region, by demographic variables including age, education, Hispanic ethnicity, race, gender, and household income.

To assist in the development of this stated preference survey, EPA has requested approval from the Office of Management and Budget to conduct a series of twelve focus groups with a total of 96 respondents (see EPA ICR number 2155.01). These focus groups will be conducted following standard, accepted practices in the stated preference literature. The focus groups will allow EPA to better understand the public's perceptions and attitudes concerning fishery resources, to frame and define survey questions, to pretest draft survey questions, to test for and eliminate or reduce potential biases that may be associated with stated preference methodology, and to ensure that both researchers and respondents have similar interpretations of survey language and scenarios.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that the total public reporting and record keeping burden for the 4,400 individuals/households who respond to the survey will be 3,227 hours, for an average of 44 minutes per respondent. The estimated total cost burden to respondents is $57,144. EPA estimates that there will be no capital and operating and maintenance cost burden. This survey is one-time activity.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 3, 2005.
Ephraim S. King,
Director, Office of Science and Technology.

[FR Doc. 05-11466 Filed 6-8-05; 8:45 am]

BILLING CODE 6560-50-P